DEPARTMENT OF TRANSPORTATION

National Highway Traffic Safety Administration

49 CFR Part 571

[Docket No. NHTSA-2018-0009]

Removing Regulatory Barriers for Vehicles With Automated Driving Systems; Extension of Comment Period

AGENCY: National Highway Traffic Safety Administration (NHTSA), Department of Transportation (DOT).

ACTION: Request for comment; extension of comment period.

SUMMARY: In response to a request, NHTSA is extending the comment period on the Removing Regulatory Barriers for Vehicles with Automated Driving Systems Request for Comment (RFC) to March 20, 2018. The RFC was published in the Federal Register on January 18, 2018. The comment period for the RFC was originally scheduled to end on March 5, 2018.

DATES: The comment period for the request for comment published January 18, 2018, at 83 FR 2607, is extended. Written comments must be received on or before March 20, 2018 in order to be considered timely.

ADDRESSES: Comments must refer to the docket number above and be submitted by one of the following methods:

Federal eRulemaking Portal: Go to http://www.regulations.gov. Follow the online instructions for submitting comments.

Mail: Docket Management Facility, M-30, U.S. Department of Transportation, West Building, Ground Floor, Room W12-140, 1200 New Jersey Avenue SE, Washington, DC 20590.

Hand Delivery or Courier: U.S. Department of Transportation, West Building, Ground Floor, Room W12-140, 1200 New Jersey Avenue SE, Washington, DC, between 9 a.m. and 5 p.m. Eastern time, Monday through Friday, except Federal holidays.

Fax: 202-493-2251.

Regardless of how you submit your comments, you must include the docket number identified in the heading of this notice.

Note that all comments received, including any personal information provided, will be posted without change to http://www.regulations.gov. Please see the “Privacy Act” heading below.

You may call the Docket Management Facility at 202-366-9324.

Docket: For access to the docket to read background documents or comments received, go to http://www.regulations.gov or the street address listed above. We will continue to file relevant information in the Docket as it becomes available.

Privacy Act: In accordance with 5 U.S.C. 553(c), DOT solicits comments from the public to better inform its decision-making process. DOT posts these comments, without edit, including any personal information the commenter provides, to http://www.regulations.gov, as described in the system of records notice (DOT/ALL-14 FDMS), which can be reviewed at https://www.transportation.gov/privacy. Anyone can search the electronic form of all comments received into any of our dockets by the name of the individual submitting the comment (or signing the comment, if submitted on behalf of an association, business, labor union, etc.).

FOR FURTHER INFORMATION CONTACT: For research issues, Ellen Lee, Human Injury Research Division, Office of Vehicle Safety Research, telephone: 202-366-1435, email: Ellen.Lee@dot.gov;

For rulemaking issues, David Hines, Director, Office of Crash Avoidance Standards, telephone 202-366-1810, email David.Hines@dot.gov;

For legal issues, Stephen Wood, Assistant Chief Counsel, Vehicle Rulemaking and Harmonization, Office of Chief Counsel, 202-366-2992, email Steve.Wood@dot.gov.

SUPPLEMENTARY INFORMATION: On January 18, 2018, NHTSA published a request for comment (RFC) (83 FR 2607) to identify regulatory barriers in the existing Federal Motor Vehicle Safety Standards (FMVSS) to the testing, compliance certification, and compliance verification of motor vehicles with Automated Driving Systems (ADSs) and certain unconventional interior designs. The RFC solicited public comments and stated that the closing date for comment is on March 5, 2018.

On February 8, 2018, NHTSA received a request for a 15-day extension of the comment period from the Association of Global Automakers, Inc. and the Alliance of Automobile Manufacturers. That request can be found in the docket for the RFC listed above under ADDRESSES. NHTSA has considered this request and believes that a 15-day extension beyond the original due date is acceptable to provide additional time for the public to comment on the RFC. This is to notify the public that NHTSA is extending the comment period on the RFC, and allowing it to run until March 20, 2018.

NHTSA also notes that, on February 13, 2018, it published a notice of a public meeting on regulatory barriers to be held at the Department of Transportation headquarters in Washington, DC on March 6, 2018, from 10 a.m. through 3:30 p.m., EST (83 FR 6148). NHTSA is holding this public meeting to present to the public a summary of the RFC and activities underway at NHTSA and across the industry to identify and remove barriers that might impede safe deployment of ADSs. The combination of the comment period extension and the public meeting will provide the public with even greater opportunities to learn about efforts to address regulatory barriers and to provide meaningful input through oral remarks or written comment.

NHTSA will consider all comments received before the close of business on the comment closing date, and will also consider comments received after that date to the extent practicable. Instructions for submitting comments are described in the Public Participation section of the RFC (83 FR 2607, January 18, 2018).

Issued in Washington, DC, on February 21, 2018 pursuant to authority delegated in 49 CFR 1.81 and 1.95.
Heidi R. King,
Deputy Administrator.

[FR Doc. 2018-04063 Filed 2-27-18; 8:45 am]

BILLING CODE 4910-59-P